DEPARTMENT OF COMMERCE

National Oceanic and Atmospheric Administration

15 CFR Part 902

[Docket No. 110819515-3563-03]

RIN 0648-BA98

Fisheries in the Western Pacific; Fishing in the Marianas Trench, Pacific Remote Islands, and Rose Atoll Marine National Monuments

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in regulations implementing amendments to four western Pacific fishery ecosystem plans, relating to fishing in three marine national monuments. The intent of this final rule is to inform the public that OMB has approved the associated reporting requirements.

DATES: This rule is effective August 1, 2013. The new permit and reporting requirements at §§ 665.13, 665.14, and 665.16, and new §§ 665.903(b) and (c), 665.904(b), 665.905, 665.933(b) and (c), 665.934(b), 665.935, 665.963(b) and (c), 665.964(b), and 665.965, published at 78 FR 32996 (June 3, 2013), have been approved by OMB and are effective on August 1, 2013.

ADDRESSES: Written comments regarding the burden-hour estimates or other aspects of the collection-of-information requirements contained in this final rule may be submitted to NMFS, attention Michael D. Tosatto, 1601 Kapiolani Blvd., Honolulu, HI 96814, and to OMB by email to OIRA_Submission@omb.eop.gov or fax to 202-395-7285.

FOR FURTHER INFORMATION CONTACT: Jarad Makaiau, NMFS Pacific Islands Region (PIR), Sustainable Fisheries, tel 808-944-2108.

SUPPLEMENTARY INFORMATION: On June 3, 2013, NMFS published in the Federal Register a final rule to implement fishing requirements contained in Amendment 3 to the Fishery Ecosystem Plan (FEP) for the Mariana Archipelago, Amendment 2 to the Pacific Remote Island Areas FEP, Amendment 3 to the American Samoa FEP, and Amendment 6 to the Pelagic FEP (78 FR 32996). The requirements of that final rule, other than the collection-of-information requirements, were effective on July 3, 2013. OMB approved the collection-of-information requirements on May 29, 2013; this rule announces the approval and the effective date of the requirements.

Under NOAA Administrative Order 205-11, dated December 17, 1990, the Under Secretary for Oceans and Atmosphere has delegated authority to sign material for publication in the Federal Register to the Assistant Administrator for Fisheries, NOAA.

Classification

This final rule has been determined to be not significant for purposes of Executive Order 12866.

Notwithstanding any other provision of the law, no person is required to respond to, and no person shall be subject to penalty for failure to comply with, a collection of information subject to the requirements of the Paperwork Reduction Act (PRA), unless that collection of information displays a currently valid OMB control number.

This final rule contains new collection-of-information requirements subject to the PRA under OMB Control Number 0648-0664. Specifically, non-commercial fishermen and recreational charter fishermen are required to obtain Federal permits and complete logbook reports to fish in the Marianas Trench, Pacific Remote Islands, and Rose Atoll Marine National Monuments. These are new requirements, except that non-commercial fishermen in the Pacific Remote Islands Monument are subject to existing permit requirements at § 665.603, § 665.624, § 665.642, § 665.662 and § 665.801. The public reporting burden for the new requirements is estimated to be 15 minutes to complete a permit application for each vessel, and 20 minutes to complete a daily trip log sheet per trip. These estimates include time for reviewing instructions, searching existing data sources, gathering and maintaining the data needed, and completing and reviewing the collection of information. Send comments regarding these burden estimates or any other aspect of this data collection, including suggestions for reducing the burden, to NMFS (see ADDRESSES) and to OMB by email to OIRA_Submission@omb.eop.gov or fax to 202-395-7285.

List of Subjects in 15 CFR Part 902

Reporting and recordkeeping requirements.

Dated: June 27, 2013.
Alan D. Risenhoover,
Director, Office of Sustainable Fisheries, performing the functions and duties of the Deputy Assistant Administrator for Regulatory Programs, National Marine Fisheries Service.

For the reasons set out in the preamble, 15 CFR part 902 is amended as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, amend the table in paragraph (b), under the entry “50 CFR” by revising the entries for §§ 665.13, 665.14, and 665.16, and adding new entries for §§ 665.905, 665.935, and 665.965, to read as follows:

§ 902.1 OMB control numbers assigned pursuant to the Paperwork Reduction Act.

* * * * *

(b) * * *

CFR part or section where the information collection requirement is located | Current OMB control number (all numbers begin with 0648-)
| * * * * * * *
50 CFR |
| * * * * * * *
665.13 | −0463, −0490, −0577, −0584, −0586, −0589, and −0664
665.14 | −0214, −0462, −0577, −0584, −0586, −0589, and -0664
665.16 | −0361, −0584, −0586, −0589, and −0664
| * * * * * * *
665.905 | −0664
665.935 | −0664
665.965 | −0664
| * * * * * * *

[FR Doc. 2013-15872 Filed 7-1-13; 8:45 am]

BILLING CODE 3510-22-P